ENVIRONMENTAL PROTECTION AGENCY

40 CFR Part 52

[EPA-R05-OAR-2015-0848; FRL-9942-56-Region 5]

Air Plan Approval; Wisconsin; Revision to the Milwaukee-Racine-Waukesha 2006 24-Hour Particulate Matter Maintenance Plan

AGENCY: Environmental Protection Agency (EPA).

ACTION: Direct final rule.

SUMMARY: The Environmental Protection Agency (EPA) is approving Wisconsin's December 23, 2015, state implementation plan (SIP) revision to the Milwaukee-Racine-Waukesha (Milwaukee), Wisconsin 2006 24-Hour Particulate Matter (PM2.5) maintenance plan. This SIP revision establishes new Motor Vehicle Emissions Budgets (MVEB) for Volatile Organic Compounds (VOC) for the years 2020 and 2025. The MVEBs for Oxides of Nitrogen (NOX), Sulfur Dioxide (SO2), and PM2.5 will remain the same. EPA is approving the allocation of a portion of the safety margin for VOC in the PM2.5 maintenance plan to the 2020 and 2025 MVEBs. The 2020 and 2025 total year emissions of VOC for the area will remain below the attainment level required by the transportation conformity regulations.

DATES: This direct final rule will be effective April 22, 2016, unless EPA receives adverse comments by March 23, 2016. If adverse comments are received, EPA will publish a timely withdrawal of the direct final rule in the Federal Register informing the public that the rule will not take effect.

ADDRESSES: Submit your comments, identified by Docket ID No. EPA-R05-OAR-2015-0848 at http://www.regulations.gov or via email to blakley.pamela@epa.gov. For comments submitted at Regulations.gov, follow the online instructions for submitting comments. Once submitted, comments cannot be edited or removed from Regulations.gov. For either manner of submission, EPA may publish any comment received on its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Michael Leslie, Environmental Engineer, Control Strategies Section, Air Programs Branch (AR-18J), Environmental Protection Agency, Region 5, 77 West Jackson Boulevard, Chicago, Illinois 60604, (312) 353-6680, leslie.michael@epa.gov.

SUPPLEMENTARY INFORMATION: Throughout this document whenever “we,” “us,” or “our” is used, we mean EPA. This supplementary information section is arranged as follows:

I. What is the background for this action?

II. What is a “safety margin”?

III. How does this action change the Milwaukee area's 2006 24-hour PM2.5 maintenance plan?

IV. What action is EPA taking?

V. Statutory and Executive Order Reviews

I. What is the background for this action?

On April 22, 2014 (79 FR 22415), EPA approved a request from the State of Wisconsin to redesignate the Milwaukee area for the 2006 24-hour PM2.5 national ambient air quality standard (NAAQS). In addition to approving the PM2.5 redesignation request, EPA approved the State's plan for maintaining the 2006 24-hour PM2.5 NAAQS in Milwaukee through 2025. The PM2.5 maintenance plan established MVEBs for PM2.5, SO2, VOC and NOX for 2020 and 2025 to account for new transportation planning assumptions.

MVEBs are the projected levels of controlled emissions from the transportation sector (mobile sources) that are estimated in the SIP to provide for maintenance of the ozone standard. The transportation conformity rule allows the MVEB to be changed as long as the total level of emissions from all sources remains below the attainment levels.

II. What is a “safety margin”?

A “safety margin”, as defined in the transportation conformity rule (40 CFR part 93 subpart A), is the amount by which the total projected emissions from all sources of a given pollutant are less than the total emissions that would satisfy the applicable requirement for reasonable further progress, attainment, or maintenance. The attainment level of emissions is the level of emissions during the year in which the area met the NAAQS. Table 1 gives detailed information on the safety margin for the VOC portion of the Milwaukee's 2006 24-Hour PM2.5 maintenance plan. Table 1 includes a comparison of the VOC emissions in the 2010 (Wisconsin's attainment year), to the projected emissions of VOC in 2020 and 2025. The difference between the projected emissions in years 2020 and 2025 and the actual emissions in 2010 is referred to as the safety margin or the amount of excess emission reductions.

Table 1—VOC Safety Margin for Milwaukee's 2006 24-Hour PM2.5 Maintenance Plan
Year | Attainment year emissions (tons/day) | Projected maintenance emissions (tons/day) | Safety margin (tons/day)
2010 | 127.40 |  |
2020 |  | 105.81 | 21.59
2025 |  | 106.70 | 20.70

Wisconsin has requested the VOC allocation of 2.384 tons/day for 2020 and 1.798 tons/day for 2025 from the safety margins to the MVEBs. The revised maintenance plan will have VOC safety margins of 19.21 tons/day for 2020 and 18.90 tons/day for 2025. The 2020 and 2025 projected VOC emissions, even with this allocation, will be below the 2010 attainment year emissions. For this reason, EPA finds that the allocation of the safety margin to the 2020 and 2025 VOC MVEBs for Milwaukee's 2006 24-Hour PM2.5 maintenance plan meets the requirements of the transportation conformity regulations at 40 CFR part 93, and is approvable.

III. How does this action change the Milwaukee area's 2006 24-hour PM2.5 maintenance plan?

This action changes the VOC MVEBs for mobile sources. The maintenance plan is designed to provide for future growth while still maintaining the 2006 24-Hour PM2.5 NAAQS. Growth in industries, population, and traffic is offset by reductions from cleaner cars and other emission reduction programs. Through the maintenance plan, the state and local agencies can manage and maintain clean air quality while providing for growth.

In the submittal, Wisconsin requested to allocate a portion of the safely margins for VOC to the 2020 and 2025 MVEBs. Table 2 details the updated MVEBs for the 2006 24-Hour PM2.5 maintenance plan for the Milwaukee area. Table 2 shows the 2020 and 2025 VOC MVEBs (approved by EPA on April 22, 2014), the amount of excess emission reductions or safety margin to be allocated into the new MVEBs, and the new 2020 and 2025 MVEBs for VOC.

Table 2—Milwaukee 2006 24-Hour PM2.5 Maintenance Plan MVEBs
Year | Approved MVEBs (tons/day) | Safety margin allocation (tons/day) | New MVEBs (tons/day)
2020 | 15.890 | 2.384 | 18.274
2025 | 11.980 | 1.798 | 13.778

IV. What action is EPA taking?

EPA is approving a revision to the Milwaukee 2006 24-Hour PM2.5 maintenance plan. The revision will change the VOC MVEBs for 2020 and 2025 that are used for transportation conformity purposes. The revision will keep the total emissions for the area at or below the attainment level required by law. This action will allow the state or local agencies to continue to maintain air quality while providing for transportation growth.

We are publishing this action without prior proposal because we view this as a noncontroversial amendment and anticipate no adverse comments. However, in the proposed rules section of this Federal Register publication, we are publishing a separate document that will serve as the proposal to approve the state plan if relevant adverse written comments are filed. This rule will be effective April 22, 2016 without further notice unless we receive relevant adverse written comments by March 23, 2016. If we receive such comments, we will withdraw this action before the effective date by publishing a subsequent document that will withdraw the final action. All public comments received will then be addressed in a subsequent final rule based on the proposed action. EPA will not institute a second comment period. Any parties interested in commenting on this action should do so at this time. Please note that if EPA receives adverse comment on an amendment, paragraph, or section of this rule and if that provision may be severed from the remainder of the rule, EPA may adopt as final those provisions of the rule that are not the subject of an adverse comment. If we do not receive any comments, this action will be effective April 22, 2016.

V. Statutory and Executive Order Reviews

Under the Clean Air Act (CAA), the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by April 22, 2016. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Particulate matter, Volatile organic compounds.

Dated: February 5, 2016.
Robert A. Kaplan,
Acting Regional Administrator, Region 5.

40 CFR part 52 is amended as follows:

PART 52—APPROVAL AND PROMULGATION OF IMPLEMENTATION PLANS

1. The authority citation for part 52 continues to read as follows:

Authority: 42 U.S.C. 7401 et seq.

2. Section 52.2584 is amended by adding paragraph (f) to read as follows:

§ 52.2584 Control strategy; Particulate matter.

* * * * *

(f) Approval—On December 23, 2015, the State of Wisconsin submitted a revision to its State Implementation Plan for the Milwaukee-Racine-Waukesha (Milwaukee), Wisconsin 2006 24-Hour Particulate Matter Maintenance Plan. The submittal established new Motor Vehicle Emissions Budgets (MVEB) for Volatile Organic Compounds (VOC) for the years 2020 and 2025. The VOC MVEBs for the Milwaukee area are now: 18.274 tons per day for 2020 and 13.778 tons per day for the year 2025.

[FR Doc. 2016-03498 Filed 2-19-16; 8:45 am]

BILLING CODE 6560-50-P